DEPARTMENT OF COMMERCE

International Trade Administration

Notice of Solicitation of Applications for Allocation of Tariff Rate Quotas on the Import of Certain Worsted Wool Fabrics

AGENCY: Department of Commerce, International Trade Administration

ACTION: The Department of Commerce is soliciting applications for an allocation of the 2001 tariff rate quotas on certain worsted wool fabric.

DATES: To be considered, applications must be received or postmarked by 5:00 p.m. on April 13, 2001.

ADDRESSES: Applications must be submitted to: Industry Assessment Division, Office of Textiles and Apparel, Room 3100, United States Department of Commerce, Washington, D.C. 20230 (telephone: (202) 482-4058). Application forms may be obtained from that office (via facsimile or mail) or from the following internet address: http://web.ita.doc.gov/tacgi/wooltrq.nsf/TRQApp.

FOR FURTHER INFORMATION CONTACT: Sergio Botero, Office of Textiles and Apparel, U.S. Department of Commerce, (202) 482-4058.

The Department of Commerce (Department) hereby solicits applications from persons (including firms, corporations, or other legal entities) who cut and sew men's and boys' worsted wool suits and suit-like jackets and trousers for an allocation of the 2001 tariff rate quotas on certain worsted wool fabric. Interested persons must submit an application on the form provided to the address listed above by 5:00 p.m. on April 13, 2001. Application forms may be obtained from that office (via facsimile or mail) or from the following internet address: http://web.ita.doc.gov/tacgi/wooltrq.nsf/TRQApp.

The Department will cause to be published in the Federal Register its determination to allocate the 2001 tariff rate quotas and will notify applicants of their respective allocation as soon as possible after that date. Promptly thereafter, the Department will issue licenses to eligible applicants. The 2002 and 2003 tariff rate quotas will be allocated at a later date.

BACKGROUND: Title V of the Trade and Development Act of 2000 (the Act) created two tariff rate quotas, providing for temporary reductions in the import duties on limited quantities of two categories of worsted wool fabrics suitable for use in making suits, suit-type jackets, or trousers: (1) for worsted wool fabric with average fiber diameters greater than 18.5 microns (new Harmonized Tariff Schedule of the United States (HTS) heading 9902.51.11); and (2) for worsted wool fabric with average fiber diameters of 18.5 microns or less (new HTS heading 9902.51.12). The first tariff rate quota year commenced on January 1, 2001 and ends on December 31, 2001. Annual imports under 9902.51.11 are limited to 2,500,000 square meters, and annual imports under 9902.51.12 are limited to 1,500,000 square meters; these limits may be modified by the President.

The Act requires that the tariff rate quotas be allocated to persons who cut and sew men's and boys' worsted wool suits, suit-type jackets and trousers in the United States. On January 22, the Department published regulations establishing procedures for allocating the tariff rate quotas. 66 FR 6459, 15 CFR 335. In order to be eligible for an allocation, an applicant must submit an application on the form provided to the address listed above by 5:00 p.m. on April 13, 2001 in compliance with the requirements of 15 CFR 335.

Any business confidential information that is marked business confidential will be kept confidential and protected from disclosure to the full extent permitted by law.

Dated: March 6, 2001.
Donald L. Evans,
Secretary, United States Department of Commerce.

[FR Doc. 01-6406 Filed 3-12-01; 11:42 am]

BILLING CODE 3510-DR-F